DEPARTMENT OF ENERGY

Federal Energy Regulatory Commission

Combined Notice of Filings #2

Take notice that the Commission received the following electric rate filings:

Docket Numbers: ER10-2238-005; ER10-2239-005; ER10-2237-004; ER10-1821-006; ER11-4475-006; ER12-896-001.

Applicants: Indigo Generation LLC, Larkspur Energy LLC, Wildflower Energy LP, Goshen Phase II LLC, Rockland Wind Farm LLC, Mariposa Energy, LLC.

Description: Notice of Non-Material Change in Status of the DGC Companies, et al.

Filed Date: 5/28/13.

Accession Number: 20130528-5171.

Comments Due: 5 p.m. ET 6/18/13.

Docket Numbers: ER10-3297-002.

Applicants: Powerex Corporation.

Description: Powerex Corporation submits Notice of Non-Material Change in Status.

Filed Date: 5/29/13.

Accession Number: 20130529-5129.

Comments Due: 5 p.m. ET 6/19/13.

Docket Numbers: ER12-1932-004; ER12-1933-005; ER12-1934-004.

Applicants: Franklin County Wind, LLC, Interstate Power and Light Company, Wisconsin Power and Light Company.

Description: Change in Status Report of the Alliant Companies, et al.

Filed Date: 5/28/13.

Accession Number: 20130528-5115.

Comments Due: 5 p.m. ET 6/18/13.

Docket Numbers: ER13-1422-002.

Applicants: Ebensburg Power Company.

Description: Inquiry Response to be effective 5/12/2013.

Filed Date: 5/29/13.

Accession Number: 20130529-5044.

Comments Due: 5 p.m. ET 6/19/13.

Docket Numbers: ER13-1564-000.

Applicants: NV Energy, Inc.

Description: Service Agreement No. 13-00014 NITS Retail Access TSA CRC_City of Las Vegas to be effective 6/1/2013.

Filed Date: 5/29/13.

Accession Number: 20130529-5008.

Comments Due: 5 p.m. ET 6/19/13.

Docket Numbers: ER13-1565-000.

Applicants: NV Energy, Inc.

Description: Service Agreement No. 13-00017 NITS Retail Access TSA CRC_City of Henderson to be effective 6/1/2013.

Filed Date: 5/29/13.

Accession Number: 20130529-5010.

Comments Due: 5 p.m. ET 6/19/13.

Docket Numbers: ER13-1566-000.

Applicants: NV Energy, Inc.

Description: Service Agreement No. 13-00020 NITS Retail Access TSA CRC_SNWA to be effective 6/1/2013.

Filed Date: 5/29/13.

Accession Number: 20130529-5011.

Comments Due: 5 p.m. ET 6/19/13.

Docket Numbers: ER13-1567-000.

Applicants: NV Energy, Inc.

Description: Service Agreement No. 13-00019 NITS Retail Access TSA CRC_CCWRD to be effective 6/1/2013.

Filed Date: 5/29/13.

Accession Number: 20130529-5013.

Comments Due: 5 p.m. ET 6/19/13.

Docket Numbers: ER13-1568-000.

Applicants: Southwest Power Pool, Inc.

Description: 1066R5 Northeast Texas Electric Cooperative NITSA and NOA to be effective 5/1/2013.

Filed Date: 5/29/13.

Accession Number: 20130529-5041.

Comments Due: 5 p.m. ET 6/19/13.

Docket Numbers: ER13-1569-000.

Applicants: Southwest Power Pool, Inc.

Description: 1065R2 Tex-La Electric Cooperative of Texas NITSA and NOA to be effective 5/1/2013.

Filed Date: 5/29/13.

Accession Number: 20130529-5079.

Comments Due: 5 p.m. ET 6/19/13.

Docket Numbers: ER13-1570-000.

Applicants: East Kentucky Power Cooperative, Inc.

Description: Cancellation of Tariff to be effective 6/1/2013.

Filed Date: 5/29/13.

Accession Number: 20130529-5101.

Comments Due: 5 p.m. ET 6/19/13.

Docket Numbers: ER13-1571-000.

Applicants: Southwest Power Pool, Inc.

Description: 2551 Kansas Municipal Energy Agency NITSA and NOA to be effective 5/1/2013.

Filed Date: 5/29/13.

Accession Number: 20130529-5114.

Comments Due: 5 p.m. ET 6/19/13.

Docket Numbers: ER13-1572-000.

Applicants: Southwest Power Pool, Inc.

Description: 1067R2 East Texas Electric Cooperative NITSA and NOA to be effective 5/1/2013.

Filed Date: 5/29/13.

Accession Number: 20130529-5115.

Comments Due: 5 p.m. ET 6/19/13.

Docket Numbers: ER13-1573-000.

Applicants: Imperial Valley Solar, LLC.

Description: Certificate of Concurrence for Co-Tenancy and Shared Use Agreement to be effective 6/1/2013.

Filed Date: 5/29/13.

Accession Number: 20130529-5116.

Comments Due: 5 p.m. ET 6/19/13.

Docket Numbers: ER13-1574-000.

Applicants: Imperial Valley Solar 1, LLC.

Description: Certificate of Concurrence for Co-Tenancy and Shared Use Agreement to be effective 6/1/2013.

Filed Date: 5/29/13.

Accession Number: 20130529-5117.

Comments Due: 5 p.m. ET 6/19/13.

Docket Numbers: ER13-1575-000.

Applicants: AEP Texas North Company.

Description: TNC-White Camp Solar Interconnection Agreement to be effective 4/30/2013.

Filed Date: 5/29/13.

Accession Number: 20130529-5120.

Comments Due: 5 p.m. ET 6/19/13.

Docket Numbers: ER13-1576-000.

Applicants: NV Energy, Inc.

Description: Service Agreement No. 13-00021 NITS—Retail Access TSA CRC_LVVWD to be effective 6/1/2013.

Filed Date: 5/29/13.

Accession Number: 20130529-5133.

Comments Due: 5 p.m. ET 6/19/13.

Docket Numbers: ER13-1577-000.

Applicants: AEP Texas North Company.

Description: TNC-SWTEC Amd #2 to Restated & Amended IA to be effective 5/1/2013.

Filed Date: 5/29/13.

Accession Number: 20130529-5140.

Comments Due: 5 p.m. ET 6/19/13.

Docket Numbers: ER13-1578-000.

Applicants: Magnolia Energy LP.

Description: Application for Market-Based Rate Authorization to be effective 5/30/2013.

Filed Date: 5/29/13.

Accession Number: 20130529-5143.

Comments Due: 5 p.m. ET 6/19/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 29, 2013.
Nathaniel J. Davis, Sr.,
Deputy Secretary.

[FR Doc. 2013-13592 Filed 6-6-13; 8:45 am]

BILLING CODE 6717-01-P